DEPARTMENT OF JUSTICE

[OMB Number 1117-0034]

Agency Information Collection Activities; Proposed eCollection, eComments Requested; Revision of a Currently Approved Collection; the National Forensic Laboratory Information System Collection of Drug Analysis Data

AGENCY: Drug Enforcement Administration, Department of Justice.

ACTION: 30-day Notice.

SUMMARY: The Department of Justice (DOJ), Drug Enforcement Administration (DEA), will be submitting the following information collection request to the Office of Management and Budget (OMB) for review and approval in accordance with the Paperwork Reduction Act of 1995. The proposed information collection was previously published in the Federal Register, on June 11, 2018, allowing for a 60 day comment period.

DATES: Comments are encouraged and will be accepted for 30 days until September 5, 2018.

FOR FURTHER INFORMATION CONTACT: If you have comments on the estimated public burden or associated response time, suggestions, or need a copy of the proposed information collection instrument with instructions or additional information, please contact Thomas D. Sonnen, Diversion Control Division, Drug Enforcement Administration; Mailing Address: 8701 Morrissette Drive, Springfield, Virginia 22152; Telephone: (202) 598-6812 or sent to OIRA_submission@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information proposed to be collected can be enhanced; and

—Minimize the burden of the collection of information on those who are to respond, including through the use of appropriate automated, electronic, mechanical, or other forms of information technology, e.g., permitting electronic submission of responses.

Overview of This Information Collection

1. Type of Information Collection: Revision of a currently approved collection.

2. Title of the Form/Collection: The National Forensic Laboratory Information System Collection of Drug Analysis Data.

3. The agency form number, if any, and the applicable component of the Department sponsoring the collection: Medical Examiner/Coroner Office Survey; National Forensic Laboratory Information System Drug Survey of Drug Laboratories; and Toxicology Laboratory Survey for the component within the Department of Justice is the Drug Enforcement Administration, Diversion Control Division.

4. Affected public who will be asked or required to respond, as well as a brief abstract:

Affected public (Primary): Forensic Science Laboratory Management.

Abstract: The National Forensic Laboratory Information System (NFLIS) collections provide the DEA with national databases on analyzed drug samples from law enforcement activities, antemortem toxicology samples (toxiciology laboratories), and post-mortem toxicology samples (medical examiner/coroner offices (MECs) from federal, state, and local laboratories. Specifically, NFLIS-Drug data provide DEA current, precise, and representative estimates of drugs seized by law enforcement and analyzed by forensic laboratories. Since 2001, DEA has had case and drug report estimates for all drugs reported in NFLIS that are statistically representative of the nation and of census regions. The estimates, which are made possible by updating the laboratory profiles through the survey effort (see draft survey in Appendix), have given DEA the ability to track national and regional drug trends; a clearer national picture of illicit or diverted drug availability; additional information about the temporal changes in drug availability by geographic region; and the ability to detect new or emerging drugs. Information from NFLIS is combined with other existing databases to develop more accurate, up-to-date information on abused drugs. This database represents a voluntary, cooperative effort on the part of participating laboratories and MECs to provide a centralized source of analyzed drug data. Existing federal drug abuse databases do not provide the type, scope, timeliness, or quality of information necessary to effectively estimate the actual or relative abuse potential of drugs as required under the Controlled Substances Act (21 U.S.C. 811(b)) and international treaties in a timely and efficient manner. For example, much of the trafficking data for federal drug scheduling actions is presently obtained on a case-by-case basis from state and local laboratories. Occasionally scientific personnel from the DEA's Diversion Control Division, Drug and Chemical Evaluation Section, have contacted specific laboratories and requested files. In addition, some DEA field offices routinely subpoena MEC records for use in case work. The development of the National Forensic Laboratory Information System (NFLIS) greatly enhances the collection of such data. Submission of information for this collection is voluntary. DEA is not mandating this information collection.

5. An estimate of the total number of respondents and the amount of time estimated for an average respondent to respond: The DEA estimates that 140 persons annually for this collection at 1.6 hour per respondent, for an annual burden of 218 hours.

6. An estimate of the total public burden (in hours) associated with the proposed collection: The DEA estimates that this collection takes 218 annual burden hours.

If additional information is required please contact: Melody Braswell, Department Clearance Officer, United States Department of Justice, Justice Management Division, Policy and Planning Staff, Two Constitution Square, 145 N Street NE, Suite 3E.405B, Washington, DC 20530.

Dated: August 1, 2018.
Melody Braswell,
Department Clearance Officer for PRA, U.S. Department of Justice.

[FR Doc. 2018-16740 Filed 8-3-18; 8:45 am]

BILLING CODE 4410-09-P